DEPARTMENT OF ENERGY

Federal Energy Regulatory Commission

[Project No. 2307-086]

Alaska Electric Light & Power Company; Notice of Availability of Environmental Assessment

In accordance with the National Environmental Policy Act of 1969 and the Federal Energy Regulatory Commission's (Commission or FERC) regulations, 18 CFR part 380, Commission staff reviewed Alaska Electric Light and Power Company's application for a non-capacity amendment of license of the Annex Creek and Salmon Creek Hydroelectric Project No. 2307, and have prepared an Environmental Assessment (EA) for the proposed amendment. The licensee proposes to replace the upper Salmon Creek penstock, which runs from the valvehouse to the abandoned upper powerhouse. The licensee would also replace penstock bridges over Salmon Creek that have not been recently rebuilt with new bridges to support the new penstock. The project is located on Annex and Salmon Creeks in the City and Borough of Juneau, Alaska. The project occupies Federal lands within the Tongass National Forest administered by the U.S. Forest Service.

The EA contains Commission staff's analysis of the potential environmental effects of the proposed amendment to the license, alternatives to the proposed action, and concludes that the proposed amendment, with appropriate environmental protective measures, would not constitute a major Federal action that would significantly affect the quality of the human environment.

The EA may be viewed on the Commission's website at http://www.ferc.gov using the “elibrary” link. Enter the docket number (P-2307) in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

For further information, contact Marybeth Gay at 202-502-6125 or Marybeth.Gay@ferc.gov.

Dated: September 30, 2024.
Debbie-Anne A. Reese,
Acting Secretary.

[FR Doc. 2024-23057 Filed 10-4-24; 8:45 am]

BILLING CODE 6717-01-P